DEPARTMENT OF TRANSPORTATION

Surface Transportation Board

[STB Finance Docket No. 34864]

BNSF Railway Company—Temporary Trackage Rights Exemption—The Kansas City Southern Railroad Company

The Kansas City Southern Railroad Company (KCS) has agreed to grant temporary overhead trackage rights to BNSF Railway Company (BNSF) over KCS's trackage between Jefferson, TX, and Metro, TX, a total distance of 200.9 miles.

The transaction is scheduled to be consummated on May 15, 2006. The temporary trackage rights will be effective: (1) From May 15, 2006, through May 24, 2006; (2) from May 31, 2006, through June 9, 2006; and (3) from June 15, 2006, through June 22, 2006, and will expire on June 22, 2006. The purpose of the temporary rights is for bridging BNSF's train service while BNSF's main lines are out of service due to certain programmed track, roadbed and structural maintenance.

As a condition to this exemption, any employee affected by the acquisition of the temporary rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34864, must be filed with the Surface Transportation Board, 1925 K Street, NW., Washington, DC 20423-0001. In addition, a copy of each pleading must be served on Sidney L. Strickland, Jr., Sidney Strickland and Associates, PLLC, 3050 K Street, NW., Suite 101, Washington, DC 20007.

Board decisions and notices are available on our Web site at http://www.stb.dot.gov.

Decided: April 27, 2006.
By the Board, David M. Konschnik, Director, Office of Proceedings.
Vernon A. Williams,
Secretary.

[FR Doc. E6-6656 Filed 5-2-06; 8:45 am]

BILLING CODE 4915-01-P